ENVIRONMENTAL PROTECTION AGENCY

40 CFR Part 180

[EPA-HQ-OPP-2013-0023; FRL-9386-2]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before July 5, 2013.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm. Additional instructions on commenting or visiting the docket, along with more information about dockets generally, is available at http://www.epa.gov/dockets.

FOR FURTHER INFORMATION CONTACT: A contact person, with telephone number and email address, is listed at the end of each pesticide petition summary. You may also reach each contact person by mail at Registration Division (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR Part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), (21 U.S.C. 346a), requesting the establishment or modification of regulations in 40 CFR Part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerance

1. PP 2E8074. (EPA-HQ-OPP-2013-0295). Cheminova A/S, c/o Cheminova, Inc., 1600 Wilson Blvd., Suite 700, Arlington, VA 22209-2510, requests to establish import tolerances in 40 CFR Part 180 for residues of the fungicide flutriafol, in or on coffee, bean, green at 0.20 parts per million (ppm) and coffee, instant at 0.30 ppm. Adequate enforcement analytical methods for determining flutriafol in/on appropriate raw agricultural commodities and processed commodities are available for the established and proposed tolerances. Contact: Tamue Gibson, (703) 305-9096, email address: gibson.tamue@epa.gov.

2. PP 2E8123. (EPA-HQ-OPP-2013-0141). Syngenta Crop Protection LLC., P.O. Box 18300, Greensboro, NC 27419-8300, requests to establish import tolerances in 40 CFR part 180 for residues of the fungicide, benzovindiflupyr (SYN545192), in or on coffee, bean, green at 0.09 ppm; and sugarcane, cane at 0.04 ppm. QuEChERS multi-residue method (EN 15662:2009) has been validated and independently validated for post-registration monitoring of SYN545192 for compliance with maximum residue levels (MRLs) and import tolerances in plant and animal commodities. Contact: Shaunta Hill, (703) 347-8961, email address: hill.shaunta@epa.gov.

3. PP 2E8137. (EPA-HQ-OPP-2013-0038). Interregional Research Project Number 4 (IR-4), 500 College Road East, Suite 201W, Princeton, NJ 08540, requests to establish tolerances in 40 CFR part 180 for residues of the insecticide flonicamid and its metabolites and degradates determined by measuring flonicamid [N-(cyanomethyl)-4-(trifluoromethyl)- 3-pyridinecarboxamide] and its metabolites TFNA (4-trifluoromethyl-nicotinic acid), TFNA-AM (4-trifluoromethyl-nicotinamide), and TFNG [N-(4-trifluoro-methylnicotinoyl)glycine], calculated as the stoichiometric equivalent of flonicamid, in or on alfalfa, forage at 7.0 ppm; alfalfa, hay at 0.20 ppm; alfalfa, seed at 1.5 ppm; clover, forage at 7.0 ppm; clover, hay at 4.0 ppm; peppermint, tops at 7.0 ppm; spearmint, tops at 7.0 ppm; vegetable, fruiting, group 8-10 at 0.40 ppm; vegetable, cucurbit, group 9 at 1.5 ppm; fruit, pome, group 11-10 at 0.20 ppm; and fruit, stone, group 12-12 at 0.60 ppm. Analytical methodology has been developed to determine the residues of flonicamid and its three major plant metabolites, TFNA, TFNG, and TFNA-AM in various crops. The residue analytical method for the majority of crops includes an initial extraction with acetonitrile (ACN)/deionized (DI) water, followed by a liquid-liquid partition with ethyl acetate. The residue method for wheat straw is similar, except that a C18 solid phase extraction (SPE) is added prior to the liquid-liquid partition. The final sample solution is quantitated using liquid chromatography (LC) equipped with a reverse phase column and a triple quadruple mass spectrometry (MS/MS). Contact: Andrew Ertman, (703) 308-9367, email address: ertman.andrew@epa.gov.

4. PP 3E8146. (EPA-HQ-OPP-2013-0258). BASF Corporation, P.O. Box 13528, Research Triangle Park, NC 27709, requests to establish tolerances in 40 CFR part 180 for residues of the insecticide metaflumizone, in or on tomato at 0.6 ppm; bell pepper at 0.6 ppm; and eggplant at 0.6 ppm. BASF Analytical Method No. 531/0 was developed to determine residues of metaflumizone and its metabolites M320I04 and M320I23 in crop matrices. In this method, residues of metaflumizone are extracted from plant matrices with methanol/water (70:30; v/v) and then partitioned into dichloro-methane. For oily matrices, the residues are extracted with a mixture of isohexane/acetonitrile (1:1; v/v). The final determination of metaflumizone and its metabolites is performed by LC/MS/MS. Contact: Julie Chao, (703) 308-8735, email address: chao.julie@epa.gov.

5. PP 3E8150. (EPA-HQ-OPP-2013-0161). Interregional Research Project Number 4 (IR-4), 500 College Road East, Suite 201W, Princeton, NJ 08540, requests to establish tolerances in 40 CFR part 180 for residues of the fungicide fenamidone, [4H-imidazol-4-one, 3,5-dihydro-5-methyl-2-(methylthio)-5-phenyl-3-(phenylamino)-, (S)-], in or on ginseng at 0.80 ppm; bean, succulent at 0.80 ppm; onion, bulb, subgroup 03-07A at 0.20 ppm; and onion, green, subgroup 03-07B at 1.5 ppm. Although residue levels approaching the proposed tolerances are unlikely, independently validated enforcement methods are available for determining residues of fenamidone and relevant metabolites. Residues are quantified by high performance liquid chromatography (HPLC) with MS/MS detection. Contact: Laura Nollen, (703) 305-7390, email address: nollen.laura@epa.gov.

6. PP 3E8167. (EPA-HQ-OPP-2012-0589). Interregional Research Project Number 4 (IR-4), 500 College Road East, Suite 201W, Princeton, NJ 08540, requests to establish a tolerance in 40 CFR part 180 for residues of the herbicide fomesafen, in or on bean, lima, succulent at 0.05 ppm. The gas chromatography with Nitrogen-Phosphorus detection (GC-NPD) has been developed and validated for residues of fomesafen in snap/dry beans, cotton seed, and cotton gin byproducts, as well as for other crops, and is used to measure and evaluate the chemical fomesafen. Contact: Laura Nollen, (703) 305-7390, email address: nollen.laura@epa.gov.

7. PP 2F8101. (EPA-HQ-OPP-2013-0226). Bayer CropScience LP, 2 T.W. Alexander Drive, P.O. Box 12014, Research Triangle Park NC 27709, requests to establish tolerances in 40 CFR part 180 for residues of the insecticide flupyradifurone, in or on aspirated grains, fractions at 40 ppm; root vegetables, except sugar beets, crop subgroup 1B at 1.5 ppm; tuberous and corm vegetable, crop sub-group 1C at 0.5 ppm; onion, bulb subgroup, crop subgroup 3-07A at 0.3 ppm; onion, green subgroup, crop subgroup 3-07B at 3 ppm; leafy vegetables, except brassica vegetables, crop group 4 at 40 ppm; taro, leaves at 40 ppm; head and stem brassica, crop subgroup 5A at 6 ppm; leafy brassica, greens, crop subgroup 5B at 40 ppm; turnip, greens at 40 ppm; edible-podded legume vegetables, crop subgroup 6A at 5 ppm; succulent shelled pea and bean, crop subgroup 6B at 4 ppm; dried shelled pea and bean except soybean, crop subgroups 6C at 6 ppm; foliage of legume vegetables, including soybeans, crop group 7, forage green vines at 40 ppm; foliage of legume vegetables, including soybean, crop group 7, hay at 50 ppm; soybean, seed at 4 ppm; fruiting vegetables, except cucurbits, crop group 8-10, fruit at 3 ppm; tomato, paste at 4 ppm; cucurbit vegetables, crop group 9, fruit at 2 ppm; citrus fruits, crop group 10-10, fruit at 3 ppm; citrus, pulp, dried at 15 ppm; pome fruits, crop group 11-10, fruit at 1.5 ppm; bushberry, subgroup, crop subgroup 13-07B at 4 ppm; small fruit vine climbing subgroup, except fuzzy kiwifruit, crop subgroup 13-07F at 3 ppm; grapes, raisin at 6 ppm; low growing berry subgroup, crop subgroup 13-07G at 1.5 ppm; tree nuts, crop group 14, nutmeat at 0.15 ppm; pistachio at 0.15 ppm; tree nut, crop group 14, hulls at 15 ppm; grain, cereal, crop group 15, except rice grain at 4 ppm; sweet corn, kernels plus cobs with husks removed (K+CWHR) at 0.4 ppm; wheat, bran at 5 ppm; rice, grain (rotational crop) at 4 ppm; grain cereal (forage, fodder and straw), group 16, forage at 20 ppm; grain cereal (forage, fodder and straw), group 16, hay at 40 ppm; grain cereal (forage, fodder and straw), group 16, straw at 30 ppm; grain cereal (forage, fodder and straw), group 16, stover at 15 ppm; cotton, undelinted seed crop subgroup 20C at 0.9 ppm; cotton, gin by-products at 40 ppm; nongrass animal feeds, forage, crop group 18 at 20 ppm; nongrass animal feeds, hay, crop group 18 at 40 ppm; coffee, bean, green at 2 ppm; coffee, bean, roasted, instant at 3 ppm; hops at 20 ppm; peanut, hay at 30 ppm; peanut, nutmeat at 0.15 ppm; prickly pear cactus, fruit at 0.5 ppm; pitaya, fruit at 0.5 ppm; prickly pear cactus, pads at 0.9 ppm; cattle/goat/hog/horse/sheep, fat at 0.5 ppm; cattle/goat/hog/horse/sheep, meat at 1 ppm; cattle/goat/hog/horse/sheep, meat byproducts at 2 ppm; milk at 0.3 ppm; poultry, eggs at 0.3 ppm; poultry, meat at 0.5 ppm; and poultry, meat byproducts at 0.5 ppm. Tolerances are being proposed in primary crops, rotational crops, animal tissues and milk for flupyradifurone and the metabolite difluoroacetic acid (DFA). The analytical method involves, solvent extraction, purification through a C-18 solid-phase extraction column, and addition of a mixture of stable, isotopically labeled internal standards. Quantitation is by HPLC-electrospray ionization/MS/MS. Contact: Jessica Rogala, (703) 347-0263, email address: rogala.jessica@epa.gov.

8. PP 2F8120. (EPA-HQ-OPP-2013-0015). Dow AgroSciences, 9330 Zionsville Road, Indianapolis, IN 46268, requests to establish tolerances in 40 CFR part 180 for the combined residues of the herbicide aminopyralid (XDE-750: 4-amino-3,6-dichloropyridine-2-carboxylic acid) and its glucose conjugate, expressed as total parent, in or on fish—shellfish, mollusc at 0.01 ppm; fish—shellfish, crustacean at 0.01 ppm;, fish—freshwater finfish at 0.04 ppm. Adequate analytical methods for enforcement purposes are available to monitor residues of aminopyralid in fish and shellfish. The analytical method GRM 07.08 uses LC/MS/MS. Contact: Bethany Benbow, (703) 347-8072, email address: benbow.bethany@epa.gov.

9. PP 2F8121. (EPA-HQ-OPP-2013-0141). Syngenta Crop Protection LLC., P.O. Box 18300, Greensboro, NC 27419-8300, requests to establish tolerances in 40 CFR part 180 for residues of the fungicide benzovindiflupyr, in or on apple, wet pomace at 0.6 ppm; barley, grain at 1.5 ppm; barley, hay at 15 ppm; barley, straw at 15 ppm; corn, field, grain at 0.02 ppm; corn, field, forage at 3 ppm; corn, field, stover at 15 ppm; corn, pop, grain at 0.02 ppm; corn, pop, stover at 15 ppm; corn, sweet, ear at 0.01 ppm; corn, sweet, forage at 4 ppm; corn, sweet, stover at 5 ppm; cottonseed, subgroup 20C at 0.15 ppm; cotton, grin byproducts at 3 ppm; vegetables, cucurbit, crop group 9 at 0.2 ppm; fruits, pome, crop group 11-10 at 0.2 ppm; fruits, small vines climbing, except fuzzy kiwi subgroup 13-07F at 1 ppm; grain, aspirated fractions at 7 ppm; oat, grain at 1.5 ppm; oat, hay at 15 ppm; oat, straw at 15 ppm; peas and bean, dried shelled, except soybean, subgroup 6C at 0.2 ppm; peas, hay at 7 ppm; peas, vine at 1.5 ppm; peanut, nutmeat at 0.01 ppm; peanut, hay at 15 ppm; potato, wet peel at 0.1 ppm; raisin at 4 ppm; rapeseed, subgroup 20A at 0.15 ppm; rye, grain at 0.1 ppm; rye, hay at 15 ppm; rye, straw at 10 ppm; soybean, seed at 0.07 ppm; soybean, forage at 15 ppm; soybean, hay at 50 ppm; vegetables, fruiting, crop group 8-10 at 0.8 ppm; vegetables, tuberous and corm subgroup 1C at 0.02 ppm; wheat, grain at 0.1 ppm; wheat, forage at 4 ppm; wheat, hay at 15 ppm; wheat, straw at 10 ppm; and in or on the following animal commodities: Cattle, fat at 0.01 ppm; cattle, kidney at 0.01 ppm; cattle, liver at 0.01 ppm; cattle, meat at 0.01 ppm; cattle, byproducts at 0.01 ppm; egg at 0.01 ppm; goat, fat at 0.01 ppm; goat, kidney at 0.01 ppm; goat, liver at 0.01 ppm; goat, meat at 0.01 ppm; goat, meat byproducts at 0.01 ppm; hog, fat at 0.01 ppm; hog, liver at 0.01 ppm; hog, meat at 0.01 ppm; hog, meat byproducts at 0.01 ppm; horse, fat at 0.01 ppm; horse, kidney at 0.01 ppm; horse, liver at 0.01 ppm; horse, meat at 0.01 ppm; horse, meat byproducts at 0.01 ppm; milk at 0.01 ppm; milk, fat at 0.01 ppm; egg at 0.01 ppm; poultry, byproducts at 0.01 ppm; poultry, fat at 0.01 ppm; poultry, liver at 0.01 ppm; poultry, meat at 0.01 ppm; poultry, skin at 0.01 ppm; sheep, fat at 0.01 ppm; sheep, kidney at 0.01 ppm; sheep, liver at 0.01 ppm; sheep, meat at 0.01 ppm; and sheep, meat byproduct at 0.01 ppm. The proposed definition of the residue for benzovindiflupyr (SYN545192) in commodities of plant origin is parent SYN545192 for both compliance monitoring and consumer risk assessments. The corresponding definitions in commodities of animal origin are parent SYN545192 for monitoring and sum of SYN545192 and SYN546039 for risk assessment. Both Method GRM042.03A and GRM042.04A for plant products have been developed to determine parent SYN545192 and its metabolite SYN546039 (and conjugates) with a limit of quantification (LOQ) of 0.01 mg/kg for both analytes. GRM042.04A also determines metabolite SYN545720 with an LOQ of 0.01 mg/kg. Method GRM042.08A has been developed for the determination of SYN545192 and its metabolites SYN546039 and SYN546206 in rotational crops, with an LOQ of 0.01 mg/kg for all three analytes. Method GRM042.06A (also known as Charles River Method No. 1887 Version 2.0) for animal products has been validated for use in pre-registration development studies. The method determines parent SYN545192 and its metabolites SYN546039 and SYN546422, with an LOQ of 0.01 mg/kg for each analyte. Method GRM023.03A was used to analyze residues of SYN545720 in the storage stability study demonstrating the storage stability of SYN545720 residues in a range of commodities under frozen conditions. Contact: Shaunta Hill, (703) 347-8961, email address: hill.shaunta@epa.gov.

10. PP 2F8134. (EPA-HQ-OPP-2013-0151). Syngenta Crop Protection LLC., P.O. Box 18300, Greensboro, NC 27419-8300, requests to establish a tolerance in 40 CFR part 180 for residues of the fungicide difenoconazole, 1-[2-[2-chloro-4-(4-chlorophenoxy)phenyl]-4-methyl-1,3-dioxolan-2-ylmethyl]-1H-1,2,4-triazole, in or on rapeseed, subgroup 20A at 0.1 ppm. For plants, Syngenta Crop Protection, LLC has submitted practical analytical method (AG-575B) for detecting and measuring levels of difenoconazole in or on food with a LOQ that allows monitoring of food with residues at or above the levels set in the proposed tolerances. Residues are qualified by LC/MS/MS. For livestock, a practical analytical method (AG-544A) for detecting and measuring levels of difenoconazole in or on cattle tissues and milk, and poultry tissues and eggs, with an LOQ that allows monitoring of food with residues at or above the levels set in the proposed tolerances. Tolerances in meat, milk, poultry or eggs were established for enforcement purposes. Contact: Rose Mary Kearns, (703) 305-5611, email address: kearns.rosemary@epa.gov.

11. PP 3F8142. (EPA-HQ-OPP-2013-0138). ISK Biosciences Corporation, 7470 Auburn Road, Suite A, Concord, Ohio, 44077, requests to establish tolerances in 40 CFR part 180 for residues of the fungicide isofetamid, N-[1,1 -dimethyl-2-[2-methyl-4-(l-methylethoxy)phenyl]-2-oxoethyl]-3-methyl-2-thiophenecarboxamide (CA) and its metabolite GPTC, N-[1,l-dimethyl-2-(4-β-D-glucopyranosyloxy-2-methylphenyl)-2-oxoethyl]-3-methyl-2-thiophenecarboxamide, expressed as isofetamid, in or on almond at 0.02 ppm; almond, hulls at 0.2 ppm; lettuce, head at 6.0 ppm; lettuce, leaf at 7.0 ppm; fruit, small vine climbing, except fuzzy kiwifruit, subgroup 13-07F at 3.0 ppm; berry, low growing, subgroup 13-07G at 4.0 ppm; and rapeseed, subgroup 20A at 0.04 ppm. The LC/MS/MS method proposed for residue analysis of plants and plant products determines the residues of parent IKF-5411 and its metabolite, GPTC. The method involves extraction of samples with acetone or with acetonitrile: water (80:20 v/v) mixture. Extracts are then subjected to SPE clean-up, with subsequent quantification of residues by liquid chromatography with tandem mass spectrometric determination (LC/MS/MS). Contact: Dominic Schuler, (703) 347-0260, email address: schuler.dominic@epa.gov.

12. PP 3F8158. (EPA-HQ-OPP-2013-0235). DuPont Crop Protection, Stine-Haskell Research Center, P.O. Box 30, Newark, DE 19714, requests to establish tolerances in 40 CFR part 180 for residues of the insecticide, chlorantraniliprole, 3-bromo-N-[4-chloro-2-methyl-6-[(methylamino)-carbonyl]phenyl]-1-(3-chloro-2-pyridinyl)-1H-pyrazole-5-carboxamide, in or on peanuts at 0.06 ppm; and peanut, hay at 90 ppm. The petitioner believes no analytical method is needed since chlorantraniliprole and its metabolic degradates are not of toxicological concern and therefore, analytical methods are not applicable. Contact: Jennifer Urbanski, (703) 347-0156, email address: urbanski.jennifer@epa.gov.

13. PP 3F8166. (EPA-HQ-OPP-2013-0268). Syngenta Crop Protection, LLC, P.O. Box 18300, Greensboro, NC 27419-8300, requests to establish tolerances in 40 CFR part 180 for residues of the fungicide thiabendazole, [2-(4-thiazolyl) benzimidazole] and its metabolite benzimidazole (free and conjugated), in or on vegetable, root (except sugarbeet), subgroup 1B at 0.02 ppm; radish, tops at 0.02 ppm; onion, bulb, subgroup 3-07A at 0.02 ppm; brassica, head and stem, subgroup 5-A at 0.02 ppm; vegetable, cucurbit, group 9 at 0.02 ppm; barley, grain at 0.05 ppm; barley, hay at 0.15 ppm; barley, straw at 0.15 ppm; wheat, hay at 0.09 ppm; wheat, forage at 0.2 ppm; oat, grain at 0.05 ppm; oat, hay at 0.09 ppm; oat, straw at 0.09 ppm; oat, forage at 0.2 ppm; rye, grain at 0.05 ppm; rye, straw at 0.15 ppm; rye, forage at 0.2 ppm; triticale, grain at 0.05 ppm; triticale, hay at 0.09 ppm; triticale, straw at 0.09 ppm; triticale, forage at 0.2 ppm; alfalfa, forage at 0.02 ppm; alfalfa, hay at 0.02 ppm; alfalfa, seed at 0.02 ppm; and spinach at 0.02 ppm. The Pesticide Analytical Manual (PAM) Vol. II lists four spectrophotofluoro-metric methods (Methods I, A, B, and C) for determining residues of thiabendazole per se in or on plant commodities, and one spectrophotofluorometric method (Method D) for determining residues of thiabendazole and 5-hydroxy-thiabendazole in milk. Contact: Rose Mary Kearns, (703) 305-5611, email address: kearns.rosemary@epa.gov.

Amended Tolerance

1. PP 2E8137. (EPA-HQ-OPP-2013-0038). Interregional Research Project Number 4 (IR-4), 500 College Road East, Suite 201W, Princeton, NJ 08540, also proposes, upon the approval of the aforementioned tolerances under “New Tolerance,” to remove established tolerances in 40 CFR 180.613 for residues of the insecticide flonicamid and its metabolites and degradates determined by measuring flonicamid [N-(cyanomethyl)-4-(trifluoromethyl)- 3-pyridinecarboxamide] and its metabolites TFNA (4-trifluoromethyl-nicotinic acid), TFNA-AM (4-trifluoromethyl-nicotinamide), and TFNG [N-(4-trifluoro-methylnicotinoyl)glycine], calculated as the stoichiometric equivalent of flonicamid, in or on the following crop groups: Vegetable, fruiting, group 8; fruit, pome, group 11; fruit, stone, group 12; cucumber; and vegetable, cucurbit, group 9, except cucumber. Contact: Andrew Ertman, (703) 308-9367, email address: ertman.andrew@epa.gov.

2. PP 3E8150. (EPA-HQ-OPP-2013-0161). Interregional Research Project Number 4 (IR-4), 500 College Road East, Suite 201 W, Princeton, NJ 08540, requests to amend the tolerances in 40 CFR 180.579 for residues of the fungicide fenamidone, [4H-imidazol-4-one, 3,5-dihydro-5-methyl-2-(methylthio)-5-phenyl-3-(phenylamino)-, (S)-], by removing the established tolerances in or on garlic at 0.20 ppm; garlic, great headed at 0.20 ppm; leek at 1.5 ppm; onion, bulb at 0.20 ppm; onion, green at 1.5 ppm; onion, welsh at 1.5 ppm; shallot, bulb at 0.20 ppm; and shallot, fresh leaves at 1.5 ppm, as they will be superseded by the tolerances described above under “New Tolerance” for PP 3E8150. Contact: Laura Nollen, (703) 305-7390, email address: nollen.laura@epa.gov.

3. PP 2F8129. (EPA-HQ-OPP-2013-0008). BASF Corporation, 26 Davis Drive, P.O. Box 13528, Research Triangle Park, NC 27709-3528, requests to amend 40 CFR 180.649 by amending tolerances for residues of saflufenacil, including its metabolites and degradates, in or on the raw agricultural commodities rice, straw at 0.30 ppm. In addition, the current commodity definition, “Grain, cereal, forage, fodder and straw group 16” would be revised to “Grain, cereal, forage, fodder and straw group 16 (except rice straw)”. Compliance with the tolerances levels is to be determined by measuring only the sum of saflufenacil, 2-chloro-5-[3,6-dihydro-3-methyl-2,6-dioxo-4-(trifluoromethyl)-1(2H)-pyrimidinyl]-4-fluoro-N-[[methyl(1-methylethyl) amino] sulfonyl]benzamide, and its metabolites N-[2-chloro-5-(2,6-dioxo-4-(trifluoromethyl)-3,6-dihydro-1(2H)-pyrimidinyl)-4-fluorobenzoyl]-N'-isopropyl sulfamide and N-[4-chloro-2-fluoro-5-({[(isopropylamino)sulfonyl]amino} carbonyl) phenyl]urea, calculated as the stoichiometric equivalent of saflufenacil, in or on the commodities. Adequate enforcement methodology (LC/MS/MS) methods D0603/02 (plants) and L0073/01 (livestock) is available to enforce the tolerance expression. Contact: Bethany Benbow, (703) 347-8072, email address: benbow.bethany@epa.gov.

4. PP 3F8160. (EPA-HQ-OPP-2013-0231). Syngenta Crop Protection, LLC, P.O. Box 18300, Greensboro, NC 27419-8300, requests to amend 40 CFR 180.571 by amending tolerances for residues of the herbicide mesotrione, by increasing the soybean tolerance from 0.01 ppm to 0.02 ppm. Syngenta Method RAM 366/01, “Residue Analytical Method for the Determination of Residues of Mesotrione and 4-(Methylsulfonyl)-2-Nitrobenzoic Acid (MNBA) in Crop Samples” with modifications was used for the analysis of soybeans. Contact: Michael Walsh, (703) 308-2972, email address: walsh.michael@epa.gov.

New Tolerance Exemption

1. PP 2E8093. (EPA-HQ-OPP-2013-0175). Winfield Solutions, LLC, PO Box 64589, St. Paul, MN 55164, requests to establish an exemption from the requirement of a tolerance for residues of sodium metabisulfite (CAS No. 7681-57-4) under 40 CFR 180.920, when used as a pesticide inert ingredient (preservative), at not more than 0.5% by weight, in pesticide formulations applied to growing crops only. The petitioner believes no analytical method is needed because this information is not required for the establishment of a tolerance exemption. Contact: William Cutchin, (703) 305-7990, email address: cutchin.william@epa.gov.

2. PP 2E8096. (EPA-HQ-OPP-2013-0237). Becker Underwood, Inc., 801 Dayton Avenue, Ames, IA 50010, requests to establish an exemption from the requirement of a tolerance for residues of the ammonium persulfate (APS) (CAS No. 7727-54-0) in or on food crops under 40 CFR 180.910 for pre- and post- harvest applications at 0.05% when used as a pesticide inert ingredient in pesticide formulations. The petitioner believes no analytical method is needed because this information is not required for the establishment of a tolerance exemption. Contact: William Cutchin, (703) 305-7990, email address: cutchin.william@epa.gov.

3. PP IN-10545. (EPA-HQ-OPP-2013-0165). BASF Corporation, c/o Lewis & Harrison, LLC, 122 C Street NW., Suite 740, Washington DC 20001, requests to establish an exemption from the requirement of a tolerance for residues of Alkyl (C8−C10) polyglucosides (CAS Reg. No. 68515-73-1) under 40 CFR 180.940(a) when used as a pesticide inert ingredient as a surfactant without limitation in antimicrobial pesticide formulations. The petitioner believes no analytical method is needed because it is not pertinent or required for this petition since an exemption from the tolerance is requested. Contact: Deirdre Sunderland, (703) 603-0851, email address: sunderland.deirdre@epa.gov.

Amended Tolerance Exemption

1. PP 2E8087. (EPA-HQ-OPP-2012-0863). Joint Inerts Task Force, Cluster Support Team 8 (JITF CST8), EPA Company Number 84942, c/o Huntsman Corp., 8600 Gosling Rd., The Woodlands, TX 77381, requests to amend exemptions from the requirement of a tolerance by adding Chemical Abstracts Service Registry Numbers (CASRNs) for pre-harvest use in or on all the raw agricultural commodities under 40 CFR 180.920 and when applied to animals under 40 CFR 180.930 for the following two chemistry descriptors that are used as surfactants: 1: dimethylaminopropylamine, isopropylamine, ethanolamine, and triethanolamine salts of alkyl (C8−C24) benzene-sulfonic acid (without limits) for CASRNs: 12068-12-1; 121617-08-1; 193562-36-6; 26836-07-7; 3088-30-0; 58089-99-9; 61886-59-7; 61931-76-8; 67924-05-4; 68110-32-7; 68259-35-8; 68442-72-8; 68567-69-1; 68815-30-5; 68815-35-0; 68953-98-0; 70528-84-6; 72391-21-0; 84961-74-0; 85480-55-3; 85480-56-4; 85995-82-0; 90194-54-0; 90194-55-1; 90218-09-0; 90218-11-4; 96687-54-6; and 99924-49-9; and 2: diethanolamine salts of alkyl (C8−C24) benzenesulfonic acid (not to exceed 7% of pesticide formulation) for CASRNs: 67815-95-6; 67889-94-5; 67889-95-6; 68259-34-7; 68478-47-7; 68567-68-0; 68815-34-9; 68815-37-2; 68891-02-1; 84989-15-1; 85338-09-6; 90194-39-1; 90194-40-4; and 90218-08-9. Prior to the submission of this petition to add missing CASRNs, Pesticide Petition 8E7472 (docket ID number EPA-HQ-OPP-2008-0889) was submitted to the Agency and these CASRNs were missing from the petition. JITF CST8 is relying on the information submitted in 8E7472 to support this petition which includes the exact same chemistry of alkylbenzene sulfonates. JITF CST8 does not expect the addition of these CASRNs to result in additional exposure or risk. The petitioner believes no analytical method is needed because this information is not required for the establishment of a tolerance exemption. Contact: Elizabeth Fertich, (703) 347-8560, email address: fertich.elizabeth@epa.gov.

2. PP 2E8092. (EPA-HQ-OPP-2012-0862). Joint Inerts Task Force, Cluster Support Team 2, (JITF CST2), EPA Company Number 84914, c/o Huntsman Corp., 8600 Gosling Rd., The Woodlands, TX 77381, requests to amend exemptions from the requirement of a tolerance by adding Chemical Abstracts Service Registry Numbers (CASRNs) for post-harvest use on agricultural crops under 40 CFR 180.910 and when applied to animals under 40 CFR 180.930 for the following two chemistry descriptors that are used as surfactants not to exceed 30% of pesticide formulation: Alkyl alcohol alkoxylate phosphate and sulfate derivatives (AAAPD and AAASD respectively), including: AAAPD surfactants: 40 CFR 180.910 and 180.930: α-Alkyl (minimum C6 linear or branched, saturated and or unsaturated)-ω-hydroxypolyoxyethylene polymer with or without polyoxypropylene, mixture of di- and monohydrogen phosphate esters and the corresponding ammonium, calcium, magnesium, monoethanolamine, potassium, sodium, and zinc salts of the phosphate esters; minimum oxyethylene content averages 2 moles; minimum oxypropylene content is 0 moles; used as surfactants not to exceed 30% of pesticide formulation for CASRNs: 103170-31-6; 103170-32-7; 106233-09-4; 106233-10-7; 1072943-56-6; 110392-49-9; 111798-26-6; 111905-50-1; 116671-23-9; 117584-36-8; 1187742-89-7; 1187743-35-6; 119415-05-3; 121158-61-0; 121158-63-2; 125139-13-1; 125301-86-2; 125301-87-3; 126646-03-5; 129870-77-5; 129870-80-0; 130354-37-9; 136504-88-6; 143372-50-3; 143372-51-4; 154518-40-8; 155240-11-2; 160498-49-7; 160611-24-5; 171543-66-1; 210493-60-0; 246159-55-7; 251298-11-0; 261627-68-3; 26982-05-8; 31800-89-2; 39341-09-8; 39341-65-6; 39464-69-2; 422563-19-7; 50668-50-3; 51884-64-1; 57486-09-6; 59112-71-9; 62362-49-6; 63747-86-4; 63887-55-8; 66272-25-1; 67786-06-5; 67989-06-4; 68071-37-4; 68130-44-9; 68130-45-0; 68130-46-1; 68186-29-8; 68186-34-5; 68238-84-6; 68311-04-6; 68389-72-0; 68413-78-5; 68425-75-2; 68439-39-4; 68511-15-9; 68511-36-4; 68551-05-3; 68585-15-9; 68585-16-0; 68585-17-1; 68585-39-7; 68603-24-7; 68607-14-7; 68610-64-0; 68649-30-9; 68650-84-0; 68855-46-9; 68856-03-1; 68890-90-4; 68890-91-5; 68891-12-3; 68891-26-9; 68909-65-9; 68909-67-1; 68909-69-3; 68921-24-4; 68921-60-8; 68954-87-0; 68954-88-1; 68954-92-7; 68987-35-9; 69029-43-2; 69980-69-4; 70247-99-3; 70248-14-5; 70903-63-8; 71965-23-6; 71965-24-7; 72480-27-4; 72623-67-7; 72623-68-8; 72828-56-9; 72828-57-0; 73018-34-5; 73050-08-5; 73050-09-6; 73361-29-2; 73378-71-9; 73378-72-0; 73559-42-9; 73559-43-0; 73559-44-1; 73559-45-2; 74499-76-6; 76930-25-1; 78330-22-0; 9004-80-2; 91254-26-1; 93925-54-3; and 96416-89-6; and AAASD surfactants: 40 CFR 180.910 and 180.930: α-Alkyl (C6-C15)-ω-hydroxypoly (oxyethylene) sulfate, and its ammonium, calcium, magnesium, potassium, sodium, and zinc salts, poly(oxyethylene content averages 2-4 moles; used as surfactants not to exceed 30% of pesticide formulations for CASRNs: 106597-03-9; 110392-50-2; 125301-88-4; 125301-89-5; 125301-92-0; 125736-54-1; 157707-85-2; 160104-51-8; 160901-27-9; 160901-28-0; 160901-29-1; 160901-30-4; 161025-28-1; 161074-79-9; 162063-19-6; 27140-00-7; 27731-61-9; 27731-62-0; 34431-25-9; 35015-74-8; 52286-18-7; 52286-19-8; 54116-08-4; 61702-79-2; 63428-86-4; 63428-87-5; 65086-57-9; 65086-79-5; 67674-66-2; 67845-82-3; 67845-83-4; 68037-05-8; 68037-06-9; 68171-41-5; 68610-66-2; 68649-53-6; 68890-88-0; 68891-29-2; 68891-30-5; 69011-37-6; 75422-21-8; 78330-16-2; 78330-17-3; 78330-25-3; 78330-26-4; 78330-27-5; 78330-28-6; 78330-29-7; 78330-30-0; 9021-91-4; and 96130-61-9. Prior to the submission of this petition to add missing CASRNs, Pesticide Petition 9E7533 (docket ID number EPA-HQ-OPP-2009-0131) was submitted to the Agency and these CASRNs were missing from the petition. JITF CST2 is relying on the information submitted in 9E7533 to support this petition which includes the exact same chemistries. JITF CST2 does not expect the addition of these CASRNs to result in additional exposure or risk. The petitioner believes no analytical method is needed because this information is not required for the establishment of a tolerance exemption. Contact: Elizabeth Fertich, (703) 347-8560, email address: fertich.elizabeth@epa.gov.

List of Subjects in 40 CFR Part 180

Environmental protection, Agricultural commodities, Feed additives, Food additives, Pesticides and pests, Reporting and recordkeeping requirements.

Dated: May 22, 2013.
Lois Rossi,
Director, Registration Division, Office of Pesticide Programs.

[FR Doc. 2013-13334 Filed 6-4-13; 8:45 am]

BILLING CODE 6560-50-P